DEPARTMENT OF THE INTERIOR

National Park Service

[NPS-WASO-NAGPRA-14793; PPWOCRADN0-PCU00RP14.R50000]

Notice of Intent To Repatriate Cultural Items: Art Collection and Galleries, Sweet Briar College, Sweet Briar, VA

AGENCY: National Park Service, Interior.

ACTION: Notice.

SUMMARY: The staff of the Art Collection and Galleries of Sweet Briar College, in consultation with the appropriate Indian tribes or Native Hawaiian organizations, has determined that the cultural items listed in this notice meet the definition of unassociated funerary objects. Lineal descendants or representatives of any Indian tribe or Native Hawaiian organization not identified in this notice that wish to claim these cultural items should submit a written request to the Art Collection and Galleries of Sweet Briar College. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Art Collection and Galleries of Sweet Briar College at the address in this notice by March 7, 2014.

ADDRESSES: Dr. Karol A. Lawson, Director, Art Collection and Galleries, Pannell 208, Sweet Briar College, Sweet Briar, VA 24595, telephone (434) 381-6248, email klawson@sbc.edu.

SUPPLEMENTARY INFORMATION: Notice is here given in accordance with the Native American Graves Protection and Repatriation Act (NAGPRA), 25 U.S.C. 3005, of the intent to repatriate cultural items under the control of the Art Collection and Galleries, Sweet Briar College, Sweet Briar, VA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The Art Collection and Galleries staff at Sweet Briar College have identified eight ceramic vessels in the permanent collection as being unassociated funerary objects from the archeological site known as Nodena, located in Mississippi County, AR. In addition, the staff have identified three ceramic fragments comprising a single object and one intact ceramic vessel as being unassociated funerary objects from burials in Mississippi County, AR. Therefore, there are 10 unassociated funerary objects from Mississippi County, AR, known to be at Sweet Briar College.

In 1932, hundreds of cultural items were removed from the Nodena site in Mississippi County, AR, by Walter B. Jones of the Alabama Museum of Natural History, according to a published report, Nodena: An Account of 90 Years of Archaeological Investigation in Southeast Mississippi County, Arkansas (Fayetteville: Arkansas Archaeological Survey, 1989, ed. Dan Morse, p. 33). Jones excavated at the site in the winter and early spring of 1932, and he and his team recovered bottles, bowls, and jars (as well as other material) and human remains. Jones designated a portion of the ceramic objects he excavated at the Nodena site as a gift to Sweet Briar College, VA. This donation appears to have been initiated by Mrs. Lena Garth of Huntsville, AL, whose daughter and granddaughter both attended Sweet Briar College. According to letters in the Sweet Briar College acquisition files, Jones informed Harris. G. Hudson (Sweet Briar history department faculty) of the gift on May 31, 1932, and Sweet Briar College president, Dr. Meta Glass, informed Jones that the materials had been received on June 18, 1932. Nowhere in the extant 1932 letters and memos did Jones, Garth, Hudson, or Glass provide specific lists clearly delineating what individual artifacts, or even exactly how many, were included in the donation to Sweet Briar College.

Between 1932 and the early 1990s, artifacts from this donation were displayed at various locations on Sweet Briar's campus, most notably in an academic building and then in the library. First under the care of the history department, the objects were then overseen by the library staff and the anthropology department faculty. In the early 1990s, care for the artifacts was turned over to the newly established art gallery. The Art Collection and Galleries staff at Sweet Briar College have identified 10 objects in the collection as unassociated funerary objects from this donation.

Based on a telephone conversation between Karol Lawson of Sweet Briar College and Dr. Ann M. Early, Arkansas State Archaeologist, Arkansas Archaeological Survey, these ceramic objects appear to be affiliated with The Quapaw Tribe of Indians. Dr. Early explained that, though the Nodena site predates documented contact between European explorers and the Native Americans identifying themselves as Quapaw, archeologists working with this material today generally concur that The Quapaw Tribe of Indians is the modern, Federally-recognized tribe most closely affiliated with the pre-historic cultural group that occupied the Nodena site. The staff of the Sweet Briar College Art Collection and Galleries inventoried and researched the provenance of the Nodena site objects in 2012, and distributed a NAGPRA summary to The Quapaw Tribe of Indians. Carrie Wilson, NAGPRA representative of The Quapaw Tribe of Indians, contacted Sweet Briar College in the summer of 2013, and subsequently requested repatriation of the objects.

Determinations Made by the Art Collection and Galleries of Sweet Briar College

Officials of Sweet Briar College have determined that:

• Pursuant to 25 U.S.C. 3001(3)(B), the 10 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Quapaw Tribe of Indians.

Additional Requestors and Disposition

Lineal descendants or representatives of any Indian tribe or Native Hawaiian organization not identified in this notice that wish to claim these cultural items should submit a written request with information in support of the claim to Dr. Karol A. Lawson, Director, Art Collection and Galleries, Pannell 208, Sweet Briar College, Sweet Briar, VA 24595, telephone (434) 381-6248, email klawson@sbc.edu by March 7, 2014. After that date, if no additional claimants have come forward, transfer of control of the unassociated funerary objects to The Quapaw Tribe of Indians may proceed.

The Art Collection and Galleries of Sweet Briar College is responsible for notifying The Quapaw Tribe of Indians that this notice has been published.

Dated: January 9, 2014.
Mariah Soriano,
Acting Manager, National NAGPRA Program.

[FR Doc. 2014-02305 Filed 2-4-14; 8:45 am]

BILLING CODE 4312-50-P